Title 3—

The President

Proclamation 8029 of June 6, 2006

Flag Day and National Flag Week, 2006

By the President of the United States of America

A Proclamation

From our Nation's earliest days, Old Glory has stood for America's strength, unity, and liberty. During Flag Day and National Flag Week, we honor this enduring American symbol and celebrate the hope and ideals that it embodies.

In 1777, the Second Continental Congress established the flag of a young Nation, whose 13 original states were represented in the flag's 13 stars and 13 alternating red and white stripes. Today, the Stars and Stripes commemorate the revolutionary truths of our Declaration of Independence and Constitution. As Americans, we revere freedom and equality, the rights and dignity of every individual, and the supremacy of the rule of law. These fundamental beliefs have guided our country and lifted the fortunes of all Americans, and we have seen their power to transform other nations and deliver hope to people around the world.

During Flag Day and National Flag Week, we also honor the men and women who carry our flag into battle. Through their bravery and sacrifice, they help keep America safe and advance peace and freedom around the globe. By flying the flag, we express our gratitude to these heroes and all those who help ensure that the many blessings of our great country continue for generations to come.

To commemorate the adoption of our flag, the Congress, by joint resolution approved August 3, 1949, as amended (63 Stat. 492), designated June 14 of each year as “Flag Day” and requested that the President issue an annual proclamation calling for its observance and for the display of the flag of the United States on all Federal Government buildings. The Congress also requested, by joint resolution approved June 9, 1966, as amended (80 Stat. 194), that the President issue annually a proclamation designating the week in which June 14 occurs as “National Flag Week” and calling upon all citizens of the United States to display the flag during that week.

NOW, THEREFORE, I, GEORGE W. BUSH, President of the United States of America, do hereby proclaim June 14, 2006, as Flag Day and the week beginning June 11, 2006, as National Flag Week. I direct the appropriate officials to display the flag on all Federal Government buildings during that week, and I urge all Americans to observe Flag Day and National Flag Week by flying the Stars and Stripes from their homes and other suitable places. I also call upon the people of the United States to observe with pride and all due ceremony those days from Flag Day through Independence Day, also set aside by the Congress (89 Stat. 211), as a time to honor America, to celebrate our heritage in public gatherings and activities, and to publicly recite the Pledge of Allegiance to the Flag of the United States of America.

IN WITNESS WHEREOF, I have hereunto set my hand this sixth day of June, in the year of our Lord two thousand six, and of the Independence of the United States of America the two hundred and thirtieth.

B

[FR Doc. 06-5322

Filed 6-8-06; 8:47 am]

Billing code 3195-01-P